DEPARTMENT OF ENERGY

Federal Energy Regulatory Commission

Combined Notice of Filings #1

Take notice that the Commission received the following electric corporate filings:

Docket Numbers: EC20-80-000.

Applicants: Peetz Logan Interconnect, LLC, Peetz Table Wind Energy, LLC, Peetz Table Wind, LLC, Northern Colorado Wind Energy, LLC, Northern Colorado Wind Energy Center, LLC, Northern Colorado Wind Energy Center II, LLC, Logan Wind Energy LLC.

Description: Amendment to July 10, 2020 Application for Authorization Under Section 203 of the Federal Power Act, et al. of Peetz Logan Interconnect, LLC, et al.

Filed Date: 7/14/20.

Accession Number: 20200714-5086.

Comments Due: 5 p.m. ET 7/31/20.

Take notice that the Commission received the following electric rate filings:

Docket Numbers: ER20-1747-000.

Applicants: South Fork Wind, LLC.

Description: Report Filing: South Fork MBR Supplemental Filing to be effective N/A.

Filed Date: 7/13/20.

Accession Number: 20200713-5191.

Comments Due: 5 p.m. ET 8/3/20.

Docket Numbers: ER20-1748-000.

Applicants: Ewington Energy Systems, LLC.

Description: Report Filing: Ewington Energy Supplemental MBR Tariff Filing to be effective N/A.

Filed Date: 7/13/20.

Accession Number: 20200713-5192.

Comments Due: 5 p.m. ET 8/3/20.

Docket Numbers: ER20-1877-001.

Applicants: PJM Interconnection, L.L.C.

Description: Tariff Amendment: Request to Defer Action: Revised ISA, SA No. 3601 and Original ICSA, SA No. 5630 to be effective 12/31/9998.

Filed Date: 7/15/20.

Accession Number: 20200715-5111.

Comments Due: 5 p.m. ET 8/5/20.

Docket Numbers: ER20-2241-001.

Applicants: Indiana Michigan Power Company, AEP Indiana Michigan Transmission Company, Inc., American Electric Power Service Corporation, PJM Interconnection, L.L.C.

Description: Tariff Amendment: AEP submits Amendment to Billing Agreement SA No. 5677 to be effective 6/1/2020.

Filed Date: 7/15/20.

Accession Number: 20200715-5105.

Comments Due: 5 p.m. ET 8/5/20.

Docket Numbers: ER20-2417-000.

Applicants: Tri-State Generation and Transmission Association, Inc.

Description: § 205(d) Rate Filing: Filing of Rate Schedule FERC No. 310, BDP Methodology to be effective 7/15/2020.

Filed Date: 7/14/20.

Accession Number: 20200714-5101.

Comments Due: 5 p.m. ET 8/4/20.

Docket Numbers: ER20-2418-000.

Applicants: Duke Energy Florida, LLC.

Description: Tariff Cancellation: Notice of Cancellation of Rate Schedule No. 187 (Shady Hills) to be effective 10/1/2020.

Filed Date: 7/14/20.

Accession Number: 20200714-5123.

Comments Due: 5 p.m. ET 8/4/20.

Docket Numbers: ER20-2419-000.

Applicants: Duke Energy Florida, LLC.

Description: § 205(d) Rate Filing: DEF-FPL Affected System Operating Agreements (SA Nos. 258, 269) to be effective 7/1/2020.

Filed Date: 7/14/20.

Accession Number: 20200714-5129.

Comments Due: 5 p.m. ET 8/4/20.

Docket Numbers: ER20-2420-000.

Applicants: Public Service Company of Colorado.

Description: § 205(d) Rate Filing: 2020-07-14_PSCo-TSGT-Const-Midway-COM-559-0.0.0-Agrmt to be effective 7/15/2020.

Filed Date: 7/14/20.

Accession Number: 20200714-5137.

Comments Due: 5 p.m. ET 8/4/20.

Docket Numbers: ER20-2421-000.

Applicants: Midcontinent Independent System Operator, Inc.

Description: Compliance filing: 2020-07-15_SA 3522 OTP-NSP FSA (J290) to be effective 8/1/2020.

Filed Date: 7/15/20.

Accession Number: 20200715-5007.

Comments Due: 5 p.m. ET 8/5/20.

Docket Numbers: ER20-2422-000.

Applicants: Midcontinent Independent System Operator, Inc.

Description: Compliance filing: 2020-07-15_SA 3529 OTP-NSP FCA (J290R) to be effective 12/31/9998.

Filed Date: 7/15/20.

Accession Number: 20200715-5009.

Comments Due: 5 p.m. ET 8/5/20.

Docket Numbers: ER20-2423-000.

Applicants: Midcontinent Independent System Operator, Inc.

Description: Compliance filing: 2020-07-15_SA 2852 NSP-GRE-WMMPA-OTP-CMMPA-Red Pine Wind 1st Rev FCA (H081) to be effective 12/31/9998.

Filed Date: 7/15/20.

Accession Number: 20200715-5015.

Comments Due: 5 p.m. ET 8/5/20.

Docket Numbers: ER20-2424-000.

Applicants: Midcontinent Independent System Operator, Inc.

Description: Compliance filing: 2020-07-15_SA 3520 OTP-Red Pine Wind FSA (H081) to be effective 8/1/2020.

Filed Date: 7/15/20.

Accession Number: 20200715-5017.

Comments Due: 5 p.m. ET 8/5/20.

Docket Numbers: ER20-2425-000.

Applicants: Midcontinent Independent System Operator, Inc.

Description: § 205(d) Rate Filing: 2020-07-15 SA 3006 Duke-Jordan Creek 2nd Rev GIA (J515) to be effective 6/30/2020.

Filed Date: 7/15/20.

Accession Number: 20200715-5018.

Comments Due: 5 p.m. ET 8/5/20.

Docket Numbers: ER20-2426-000.

Applicants: Blooming Grove Wind Energy Center LLC.

Description: § 205(d) Rate Filing: Revised Market-Based Rate Tariff Filing to be effective 9/14/2020.

Filed Date: 7/15/20.

Accession Number: 20200715-5022.

Comments Due: 5 p.m. ET 8/5/20.

Docket Numbers: ER20-2427-000.

Applicants: Midcontinent Independent System Operator, Inc.

Description: Compliance filing: 2020-07-15_SA 3521 NSP-Red Pine Wind FSA (H081) to be effective 6/30/2020.

Filed Date: 7/15/20.

Accession Number: 20200715-5025.

Comments Due: 5 p.m. ET 8/5/20.

Docket Numbers: ER20-2428-000.

Applicants: Interstate Power and Light Company.

Description: § 205(d) Rate Filing: IPL-CIPCO-Wapello LBA Agreement to be effective 9/14/2020.

Filed Date: 7/15/20.

Accession Number: 20200715-5027.

Comments Due: 5 p.m. ET 8/5/20.

Docket Numbers: ER20-2429-000.

Applicants: ISO New England Inc., Central Maine Power Company.

Description: Compliance filing: Rev to Sch 21-CMP to Comply w/Order No. 864 Accumulated Deferred Income Tax Req to be effective 6/1/2020.

Filed Date: 7/15/20.

Accession Number: 20200715-5031.

Comments Due: 5 p.m. ET 8/5/20.

Docket Numbers: ER20-2430-000.

Applicants: PJM Interconnection, L.L.C.

Description: § 205(d) Rate Filing: Original WMPA SA No. 5693; Queue No. AF1-155 to be effective 6/16/2020.

Filed Date: 7/15/20.

Accession Number: 20200715-5091.

Comments Due: 5 p.m. ET 8/5/20.

Docket Numbers: ER20-2431-000.

Applicants: PJM Interconnection, L.L.C.

Description: Tariff Cancellation: Notice of Cancellation of DEA, SA No. 4310 to be effective 5/23/2020.

Filed Date: 7/15/20.

Accession Number: 20200715-5090.

Comments Due: 5 p.m. ET 8/5/20.

Docket Numbers: ER20-2432-000.

Applicants: PJM Interconnection, L.L.C.

Description: Compliance filing: Notice of Cancellation of ISA, SA No. 2261 re: Deactivation to be effective N/A.

Filed Date: 7/15/20.

Accession Number: 20200715-5097.

Comments Due: 5 p.m. ET 8/5/20.

Docket Numbers: ER20-2433-000.

Applicants: Duke Energy Florida, LLC.

Description: § 205(d) Rate Filing: DEF-Archer Solar E&P Agreement to be effective 7/14/2020.

Filed Date: 7/15/20.

Accession Number: 20200715-5112.

Comments Due: 5 p.m. ET 8/5/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2020.
Nathaniel J. Davis, Sr.,
Deputy Secretary.

[FR Doc. 2020-15714 Filed 7-20-20; 8:45 am]

BILLING CODE 6717-01-P